FEDERAL COMMUNICATIONS COMMISSION

[DA 03-3309]

Announcement of Next Meeting Date and Agenda of Consumer Advisory Committee

AGENCY: Federal Communications Commission.

ACTION: Notice.

SUMMARY: This document announces the next meeting date and agenda of the Consumer Advisory Committee whose purpose is to make recommendations to the Federal Communications Commission (“Commission”) regarding consumer issues within the jurisdiction of the Commission and to facilitate the participation of consumers (including people with disabilities and underserved populations, such as Native Americans and persons living in rural areas) in proceedings before the Commission.

DATES: The next meeting of the Committee will take place on Thursday, November 20, 2003, from 9 a.m. to 4 p.m.

ADDRESSES: Federal Communication Commission, 445 12th Street SW., Room TW-C305, Washington, DC 20554.

FOR FURTHER INFORMATION CONTACT: Scott Marshall, (202) 418-2809 (voice), (202) 418-0179 (TTY) or e-mail: cac@fcc.gov.

SUPPLEMENTARY INFORMATION: This is a summary of the Commission's Public Notice DA 03-3309 released October 21, 2003. The Commission announced the next meeting date and meeting agenda of its Consumer Advisory Committee.

Purpose and Functions

The purpose of the committee is to make recommendations to the Commission regarding consumer issues within the jurisdiction of the Commission and to facilitate the participation of consumers (including people with disabilities and underserved populations, such as Native Americans and persons living in rural areas) in proceedings before the Commission.

Meeting Agenda

The Committee will consider: (1) Recommendations of its TRS Working Group regarding outreach and funding for telecommunications relay services; (2) a recommendation of its Broadband Working Group regarding further study of broadband issues; (3) recommendations of its consumer Complaints, Education and Outreach Working Group regarding funding for, and effective methods of, outreach to consumers; and (4) a progress report of its Ancillary Services Working Group. Time will also be allotted for working group meetings between 10 a.m. and 12 p.m. The Committee will also receive briefings by FCC staff regarding Consumer & Governmental Affairs Bureau activities and other matters.

Availability of Copies and Electronic Accessibility

A copy of the October 21, 2003, Public Notice is available in alternate formats (Braille, cassette tape, large print or diskette) upon request. It is also posted on the Commission's Web site at http://www.fcc.gov/cgb/cac. Meeting minutes will be available for public inspection at the FCC headquarters building and will be posted on the Commission's Web site at http://www.fcc.gov/cgb/cac.

The Committee meeting will be open to the public and interested persons may attend the meeting and communicate their views. Members of the public will have an opportunity to address the Committee on issues of interest to them and the Committee. Written comments for the Committee may also be sent to the Committee's Designated Federal Officer, Scott Marshall.

The meeting site is fully accessible to people using wheelchairs or other mobility aids. Meeting agendas and handouts will be provided in accessible format. Sign language interpreters, open captioning, and assistive listening devices will be provided on site. The meeting will be webcast with open captioning at http://www.fcc.gov/cgb/cac. Request other reasonable accommodations for people with disabilities as early as possible; please allow at least 5 days advance notice. Include a description of the accommodation you will need including as much detail as you can. Also include a way we can contact you if we need more information. Last minute requests will be accepted, but may be impossible to fill. Send an e-mail to: fcc504@fcc.gov or call the Consumer & Governmental Affairs Bureau at (202) 418-0530 (voice), (202) 418-0432 (TTY).

Federal Communications Commission.
K. Dane Snowden,
Chief, Consumer & Governmental Affairs Bureau.

[FR Doc. 03-27408 Filed 10-30-03; 8:45 am]

BILLING CODE 6712-01-P